DEPARTMENT OF DEFENSE

GENERAL SERVICES ADMINISTRATION

NATIONAL AERONAUTICS AND SPACE ADMINISTRATION

48 CFR Parts 12 and 52

[FAC 2001-07; Item IV]

Federal Acquisition Regulation; Technical Amendments

AGENCIES: Department of Defense (DoD), General Services Administration (GSA), and National Aeronautics and Space Administration (NASA).

ACTION: Final rule.

SUMMARY: This document makes amendments to the Federal Acquisition Regulation in order to update references and make editorial changes.

DATES: Effective Date: May 15, 2002.

FOR FURTHER INFORMATION CONTACT: The FAR Secretariat, Room 4035, GS Building, Washington, DC 20405, (202) 501-4755. Please cite FAC 2001-07, Technical Amendments.

List of Subjects in 48 CFR Parts 12 and 52

Government procurement.

Dated: April 23, 2002.
Al Matera,
Director, Acquisition Policy Division.

Therefore, DoD, GSA, and NASA amend 48 CFR parts 12 and 52 as set forth below:

1. The authority citation for 48 CFR parts 12 and 52 continues to read as follows:

Authority: 40 U.S.C. 486(c); 10 U.S.C. chapter 137; and 42 U.S.C. 2473(c).

PART 12—ACQUISITION OF COMMERCIAL ITEMS

12.301 [Amended]

2. Amend section 12.301 at the end of paragraphs (b)(1) and (b)(2) by removing the semi-colons and adding a period in their places; and at the end of paragraph (b)(3) by removing “; and” and adding a period in its place.

PART 52—SOLICITATION PROVISIONS AND CONTRACT CLAUSES

3. Amend section 52.214-20 by revising the introductory text of Alternates I and II to read as follows:

52.214-20 Bid Samples.

* * * * *

Alternate I (May 2002). As prescribed in 14.201-6(o)(2)(i), insert the following Alternate I:

* * * * *

Alternate II (May 2002). As prescribed in 14.201-6(o)(2)(ii), insert the following Alternate II:

* * * * *

52.244-6 [Amended]

4. Amend section 52.244-6 by revising the date of the clause to read “(May 2002)”; removing from paragraph (c)(1)(ii) “(Feb 1999)” and adding “(Apr 2002)” in its place; and removing from paragraph (c)(1)(v) “Flagged” and adding “Flag” in its place.

[FR Doc. 02-10372 Filed 4-29-02; 8:45 am]

BILLING CODE 6820-EP-P